DEPARTMENT OF VETERANS AFFAIRS

38 CFR Part 74

RIN 2900-AO63

VA Veteran-Owned Small Business (VOSB) Verification Guidelines; Correction

AGENCY: Department of Veterans Affairs.

ACTION: Advanced notice of proposed rulemaking; correction.

SUMMARY: In a document published in the Federal Register on May 13, 2013, the Department of Veterans Affairs (VA) amended its Veteran-Owned Small Business (VOSB) Verification Guidelines Program regulations to provide greater clarity, to streamline the program and to encourage more VOSBs to apply for verification. The preamble of that document contained several errors. This document merely corrects those errors and does not make any substantive change to the content of the advance notice of proposed rulemaking.

DATES: The comment period for the proposed rule published May 13, 2013, at 78 FR 27882, remains open until July 12, 2013

FOR FURTHER INFORMATION CONTACT: Tom Leney, Executive Director of the Office of Small and Disadvantaged Business Utilization (00SB), Department of Veterans Affairs, 810 Vermont Ave. NW., Washington, DC 20420, (202) 461-4300. This is not a toll-free number.

SUPPLEMENTARY INFORMATION: The advance notice of proposed rulemaking (FR Doc. 2013-11326) that VA published on May 13, 2013, at 78 FR 27882, contained two errors—the word “advanced” was missing from the second sentence of the SUMMARY and the title of contact person was incorrect. This document corrects those errors.

In the first column, second sentence of the SUMMARY, add the word “advanced” before “notice of proposed rulemaking,” and in the second column, FOR FURTHER INFORMATION CONTACT, correct the title by removing “Executive Director, Center for Veterans Enterprise (00VE)” and adding, in its place, “Executive Director of the Office of Small and Disadvantaged Business Utilization (00SB)”.

Dated: June 14, 2013.
William F. Russo,
Deputy Director, Office of Regulation Policy and Management, Office of the General Counsel, Department of Veterans Affairs.

[FR Doc. 2013-14583 Filed 6-18-13; 8:45 am]

BILLING CODE 8320-01-P